DEPARTMENT OF HEALTH AND HUMAN SERVICES

Administration for Children and Families

Submission for OMB Review; Comment Request

Proposed Projects

Title: National Survey of Child and Adolescent Well-Being.

OMB No.: 0970-0202.

Description: This longitudinal survey provides national estimates on the characteristics related to children and fami8lies who enter the child welfare system. It has collected data from a cohort of 6,100 children who entered the child welfare system as a result of a CPS investigation between October 1999 and April 2001. Data were collected from the children themselves, their caregivers, their teachers, and their caseworkers at baseline, with follow-ups at 12 and 18 months post-baseline. The current request is to pursue a 36-month follow-up, essentially replicating the measure that were used at baseline and at the 18-month follow-up.

Respondents: Children who are clients of the child welfare system, their primary caregivers, caseworkers, and teachers.

Annual Burden Estimates:

Instrument | Responses | Number of responses per respondent | Average burden hours per respondent | Total burden hours
Child interview | 5,491 | 1 | 1.63 | 8,950
Caregiver interview | 5,491 | 1 | 1.50 | 8,237
Caseworker Interview | 2,366 | 1 | 0.80 | 1,893
Caseworker Interview | 2,491 | 1 | 0.75 | 1,868

Estimated Total Annual Burden Hours: 20,948.

Additional Information: Copies of the proposed collection may be obtained by writing to the Administration for Children and Families, Office of Administration, Office of Information Services, 370 L'Enfant Promenade, SW., Washington, DC 20447, Attn: ACF Reports Clearance Officer.

OMB Comment: OMB is required to make a decision concerning the collection of information between 30 and 650 days after publication of this document in the Federal Register. Therefore, a comment is best assured of having its full effect if OMB receives it within 30 days of publication. Written comments and recommendations for the proposed information collection should be sent directly to the following: Office of Management and Budget, Paperwork Reduction Act, 725 17th Street, NW., Washington, DC 20503, Attn: Desk Officer for ACF.

Dated: August 13, 2002.
Robert Sargis,
Reports Clearance Officer.

[FR Doc. 02-20936 Filed 8-16-02; 8:45 am]

BILLING CODE 4184-01-M